DEPARTMENT OF VETERANS AFFAIRS

[OMB Control No. 2900-0648]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before September 14, 2006.

For Further Information Or A Copy Of The Submission Contact: Denise McLamb, Records Management Service (005G2), Department of Veterans Affairs, 8l0 Vermont Avenue, NW., Washington, DC 20420, (202) 565-8374 or fax (202) 565-7045, or e-mail: denise.mclamb@mail.va.gov. Please refer to “OMB Control No. 2900-0648.

Send comments and recommendations concerning any aspect of the information collection to VA's OMB Desk Officer, OMB Human Resources and Housing Branch, New Executive Office Building, Room 10235, Washington, DC 20503, (202) 395-7316. Please refer to “OMB Control No. 2900-0648 in any correspondence.

SUPPLEMENTARY INFORMATION: Title: Foreign Medical Program, VA Form 10-7959f-1 and 10-7959f-2.

OMB Control Number: 2900-0648.

Type of Review: Revision of a currently approved collection.

Abstract: a. Veterans with service connected disabilities living or traveling overseas complete VA Form 10-7959f-1 to enroll in the Foreign Medical Program.

b. Healthcare providers complete VA Form 10-7959f-2 to submit claims for payments or reimbursement of expenses relating to veterans living or traveling overseas (except for Canada and the Philippines) with service-connected disability. VA will accept provider's generated billing statement, Uniform Billing-Forms (UB) 92, and Medicare Health Insurance Claims Form, HCFA 1500 for payments or reimbursements.

An agency may not conduct or sponsor, and a person is not required to respond to a collection of information unless it displays a currently valid OMB control number. The Federal Register Notice with a 60-day comment period soliciting comments on this collection of information was published on June 1, 2006, at pages 31261-31262.

Affected Public: Individuals or households, business or other for profit, and not for profit institutions.

Estimated Total Annual Burden: 3,763 hours.

a. Foreign Medical Program, VA Form 10-7959f-1—111 hours.

b. Claim Cover Sheet, VA Form 10-7959-2—3,652 hours

Estimated Average Burden Per Respondent:

a. Foreign Medical Program, VA Form 10-7959f-1—4 minutes.

b. Claim Cover Sheet, VA Form 10-7959-2—11 minutes.

Frequency of Response: On occasion.

Estimated Number of Respondents: 3,320.

a. Foreign Medical Program, VA Form 10-7959f-1-1,660.

b. Claim Cover Sheet, VA Form 10-7959f-2—1,660.

Estimated Total Annual Responses: 21,580.

a. Foreign Medical Program, VA Form 10-7959 -1—1,660.

b. Claim Cover Sheet, VA Form 10-7959-2—19,920.

Dated: August 7, 2006.
By direction of the Secretary.
Denise McLamb,
Program Analyst, Records Management Service.

[FR Doc. E6-13297 Filed 8-14-06; 8:45 am]

BILLING CODE 8320-01-P